DEPARTMENT OF JUSTICE

Office of Justice Programs

Agency Information Collection Activities: Extension of a Currently Approved Collection; Comment Request

ACTION: 60-day notice of information collection under review: new collection; Domestic Preparedness Training Evaluation and Follow-up.

The Department of Justice, Office of Justice Programs, Office for Domestic Preparedness has submitted the following information collection request for review and clearance in accordance with the Paperwork Reduction Act of 1995. Office of Management and Budget approval is being sought for the information collection listed below. This proposed information collection is published to obtain comments from the public and affected agencies. Comments are encouraged and will be accepted for “sixty days” until May 13, 2002.

If you have comments, suggestions, or need a copy of the proposed information collection instrument or additional information, please contact Patricia A. Malak, 202-616-3461, Office for Domestic Preparedness, Office of Justice Programs, U.S. Department of Justice, 810 7th Street, NW., Washington, DC 20531.

Written comments and/or suggestions from the public and affected agencies concerning the proposed collection of information should address one or more of the following four points:

(1) Evaluate whether the proposal collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: New collection

(2) The title of the form/collection: Domestic Preparedness Training Evaluation and Follow-up.

(3) The agency form number, if any, and the applicable component of the Department sponsoring the collection: The Office for Domestic Preparedness, Office of Justice Programs, U.S. Department of Justice is sponsoring the collections. A form number has not been assigned.

(4) Affected public who will be asked or required to respond, as well as a brief abstract: Primary: Individuals who participate in Office for Domestic Preparedness-sponsored training other: None.

Abstract: The data collection effort is designed to obtain feedback from participants, who attend Office for Domestic Preparedness-sponsored training, on enhanced knowledge and/or skills, course improvements, and actions to use the information to improve personal, agency, or jurisdictional preparedness to respond to a terrorism incident. Approximately 4 months after the training, a sample of participants will be asked to complete a follow-up survey on how useful the training has been to them in performing their job actions they have taken to enhance response capacities.

(5) An estimate of the total number of respondents and the amount of time estimated for an average respondent to respond/reply. It is estimated that approximately 21,390 respondents will be asked to complete the training evaluation forms and that will take approximately 15 minutes to complete.

(6) An estimate of the total public burden (in hours) associated with the collection: The total hour burden to complete evaluation forms is approximately 5,347 hours.

If additional information is required contact: Ms. Brenda E. Dyer, Deputy Clearance Officer, United States Department of Justice, Information Management and Security Staff, Justice Management Division, Suite 1600, 601 D Street, NW., Washington, DC 20530-or via facsimile at (202) 514-1590.

Dated: March 8, 2002.
Brenda E. Dyer,
Department Deputy Clearance Officer, United States Department of Justice.

[FR Doc. 02-6109 Filed 3-13-02; 8:45 am]

BILLING CODE 4410-18-M